DEPARTMENT OF COMMERCE

International Trade Administration

[A-489-807]

Certain Steel Concrete Reinforcing Bars From Turkey; Notice of Partial Rescission of Antidumping Duty Administrative Review

AGENCY: Import Administration, International Trade Administration, Department of Commerce.

EFFECTIVE DATE: January 23, 2006.

FOR FURTHER INFORMATION CONTACT: Irina Itkin or Alice Gibbons at (202) 482-0656 or (202) 482-0498, respectively, AD/CVD Operations, Office 2, Import Administration, International Trade Administration, U.S. Department of Commerce, 14th Street and Constitution Avenue, NW., Washington, DC 20230.

SUPPLEMENTARY INFORMATION:

Background

On April 1, 2005, the Department of Commerce (the Department) published in the Federal Register a notice of “Opportunity to Request Review” of the antidumping duty order on certain steel concrete reinforcing bars (rebar) from Turkey for the period of review April 1, 2004, through March 31, 2005. See Antidumping or Countervailing Duty Order, Finding, or Suspended Investigation; Opportunity to Request a Review, 70 FR 16799 (April 1, 2005). The Department received timely requests for review from Colakoglu Metalurji A.S. and Colakoglu Dis Ticaret (collectively “Colakoglu”); Diler Demir Celik Endustrisi ve Ticaret A.S., Yazici Demir Celik Sanayi ve Ticaret A.S., and Diler Dis Ticaret A.S. (collectively “Diler”); Habas Sinai ve Tibbi Gazlar Istihsal Endustrisi A.S. (Habas); and ICDAS Celik Enerji Tersane ve Ulasim Sanayi A.S. (ICDAS), foreign producers/exporters in this proceeding. The Department also received a timely request for review from Nucor Corporation and Gerdau Ameristeel Corporation, domestic producers of rebar and interested parties in this proceeding, covering 34 producers/exporters of rebar from Turkey, including the producers/exporters referenced above. On May 27, 2005, the Department published a notice of initiation of administrative review of the antidumping duty order on rebar from Turkey. See Initiation of Antidumping Duty and Countervailing Duty Administrative Reviews and Request for Revocation in Part, 70 FR 30694 (May 27, 2005). The Department released the antidumping questionnaire in May and August 2005 to the 34 producers/exporters for which an administrative review was requested. Colakoglu, Diler, Ekinciler Demir ve Celik Sanayi A.S. and Ekinciler Dis Ticaret A.S., and Habas responded to the Department's questionnaire in August 2005 and ICDAS responded to the Department's questionnaire in October 2005. The preliminary results for this proceeding are due no later than May 1, 2006.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Determination To Rescind, in Part

On November 8, 2005, the Department published its final results for the April 1, 2003, though March 31, 2004, administrative review and found that ICDAS met the requirements of revocation as described in 19 CFR 351.222. See Certain Steel Concrete Reinforcing Bars From Turkey; Final Results, Rescission of Antidumping Duty Administrative Review in Part, and Determination To Revoke in Part, 70 FR 67665 (Nov. 8, 2005). Due to ICDAS' revocation in that review, we are rescinding the April 1, 2004, through March 31, 2005, administrative review with respect to ICDAS because there is no statutory or regulatory basis to conduct an administrative review for a producer/exporter that has met the requirements of revocation.

Dated: January 12, 2006.
David M. Spooner,
Assistant Secretary for Import Administration.

[FR Doc. E6-652 Filed 1-20-06; 8:45 am]

BILLING CODE 3510-DS-P